DEPARTMENT OF THE INTERIOR

National Park Service

Quarry Visitor Center, Environmental Impact Statement, Dinosaur National Monument, CO and UT

AGENCY: National Park Service, Department of the Interior

ACTION: Notice of Intent to prepare an environmental impact statement for the Quarry Visitor Center, Dinosaur National Monument.

SUMMARY: Pursuant to the National Environmental Policy Act of 1969, 42 U.S.C. 4332©, the National Park Service (NPS) is preparing an environmental impact statement (EIS) for the Quarry Visitor Center for Dinosaur National Monument. This effort will analyze the impacts of a broad range of design alternatives to stabilize, rehabilitate, or replace the historic Quarry Visitor Center at Dinosaur National Monument. Constructed in 1956-57, the Quarry Visitor Center protects and provides visitor access and interpretation of “the greatest quarry of Jurassic dinosaurs in the world.” The building has been designated a National Historic Landmark for its relationship to the National Park Service “Mission 66” program and as an outstanding example of Mission 66 “Park Service Modern” architectural design.

The building has experienced problems with foundation movements since its construction. The building suffers extensive structural distress due to differential movements between foundations elements that bear on moisture sensitive expansive clay strata. Attempts to stabilize the building have been ongoing for 40 years with major projects undertaken in 1967 and during the 1980s. Despite these efforts, the building continues to deteriorate and present safety concerns and costly ongoing maintenance issues. A historic structures report (HSR) was prepared in 2003 to evaluate the visitor center's existing condition and assess potential treatments to stabilize the building.

This proposed project will analyze a broad range of design alternatives, including the treatments proposed in the HSR, for the stabilization, rehabilitation, reconstruction, or replacement of the Quarry Visitor Center. This project will also recommend actions to correct numerous safety hazards, provide continued safe access for employees and visitors, accommodate special needs for accessibility, and if feasible, maintain the integrity of the National Historic Landmark.

This project poses the possibility of significant adverse impacts on the Quarry Visitor Center. The probability of significant adverse impacts on a national historic landmark and possible significant adverse impact on currently undiscovered buried fossil resources requires the preparation of an environmental impact statement and an extensive public involvement process throughout the project.

The park superintendent will initiate consultation with congressional delegations and state and local agencies on the environmental impact statement. Consultation with these agencies will continue throughout the planning and design process.

Public involvement in the planning process will include newsletters that inform the public of the project and provide opportunities for input; press releases in the local media; open houses to present and solicit input on the design alternatives; a public review draft of the design document and environmental impact statement and public meetings to provide additional opportunities to comment on the design alternatives and the analysis of their environmental impacts. A public forum for comment on the full range of design alternatives will be provided throughout the course of the EIS process. Public involvement is essential for the development of creative and sustainable design alternatives for the Quarry Visitor Center. The director, Intermountain Region, National Park Service will approve the environmental impact statement.

A briefing statement has been prepared that summarizes the specific elements of the design project and the EIS. Copies of that information may be obtained from: Superintendent, Chas Cartwright, Dinosaur National Monument, 4545 E. Highway 40, Dinosaur, CO 81610-9724.

DATES: The Park Service will accept comments from the public through July 28, 2004.

ADDRESSES: Information will be available for public review and comment in the office of the Superintendent, Chas Cartwright, Dinosaur National Monument, 4545 E. Highway 40, Dinosaur, CO 81610-9724, (970) 374-3001 or e-mail: dino_superintendent@nps.gov.

FOR FURTHER INFORMATION CONTACT: Superintendent Chas Cartwright at 970-374-3001 or e-mail: dino_superintendent@nps.gov.

SUPPLEMENTARY INFORMATION: You may mail comments to: Superintendent's Office, Dinosaur National Monument, 4545 E. Highway 40, Dinosaur, CO 81610-9724. You may also hand-deliver comments to the Superintendent's Office, Dinosaur National Monument, Dinosaur, CO. (Attn: Quarry Visitor Center Environmental Impact Statement). Our practice is to make comments, including names and home addresses of respondents, available for public review during regular business hours. Individual respondents may request that we withhold their home address from the record, which we will honor to the extent allowable by law. If you wish us to withhold your address, you must state this prominently at the beginning of your comment. We will make all submissions from organizations or businesses, and from individuals identifying themselves as representatives or officials of organizations or businesses, available for public inspection in their entirety.

Dated: April 29, 2004.
Michael D. Snyder,
Deputy Director, Intermountain Region, National Park Service.

[FR Doc. 04-14546 Filed 6-25-04; 8:45 am]

BILLING CODE 4312-CR-P